SMALL BUSINESS ADMINISTRATION

[Declaration of Disaster #P017]

State of West Virginia

As a result of the President's major disaster declaration for Public Assistance on September 23, 2003 the U.S. Small Business Administration is activating its disaster loan program only for private non-profit organizations that provide essential services of a governmental nature. I find that Berkeley, Grant, Hampshire, Hardy, Jefferson, Mineral, Morgan, Pendleton, Randolph and Tucker Counties in the State of West Virginia constitute a disaster area due to damages caused by Hurricane Isabel occurring on September 18, 2003 and continuing. Applications for loans for physical damage as a result of this disaster may be filed until the close of business on November 24, 2003 at the address listed below or other locally announced locations: U.S. Small Business Administration, Disaster Area 1 Office, 360 Rainbow Blvd., South, 3rd Floor, Niagara Falls, NY 14303.

The interest rates are:

| Percent
For Physical Damage:
Non-Profit Organizations without Credit Available Elsewhere | 3.100
Non-Profit Organizations with Credit Available Elsewhere | 5.500

The number assigned to this disaster for physical damage is P01708.

(Catalog of Federal Domestic Assistance Program Nos. 59008)

Dated: September 25, 2003.
Cheri L. Cannon,
Acting Associate Administrator for Disaster Assistance.

[FR Doc. 03-25034 Filed 10-1-03; 8:45 am]

BILLING CODE 8025-01-P